SECURITIES AND EXCHANGE COMMISSION

17 CFR Part 201

[Release No. 34-90442; File No. S7-19-15]

RIN 3235-AL98

Amendments to the Commission's Rules of Practice; Correction

AGENCY: Securities and Exchange Commission.

ACTION: Final rule; correction.

SUMMARY: The Securities and Exchange Commission (“Commission”) is correcting a final rule that appeared in the Federal Register on December 30, 2020. The final rule adopted amendments to its Rules of Practice to require persons involved in Commission administrative proceedings to file and serve documents electronically.

DATES: The corrections are effective March 10, 2021.

FOR FURTHER INFORMATION CONTACT: Naomi P. Lewis, Office of the Secretary (202) 551-5400, Securities and Exchange Commission, 100 F Street NE, Washington, DC 20549.

SUPPLEMENTARY INFORMATION: In FR Doc. 2020-25747, starting on page 86464 in the Federal Register of December 30, 2020, the following corrections are made:

1. On page 86464, in column 3, the file number is corrected to read “S7-19-15”.

2. On page 86464, in column 3, the RIN number is corrected to read “3235-AL98”.

Dated: March 5, 2021.
J. Matthew DeLesDernier,
Assistant Secretary.

[FR Doc. 2021-04960 Filed 3-9-21; 8:45 am]

BILLING CODE P